DEPARTMENT OF ENERGY

Office of Energy Efficiency and Renewable Energy

Availability of the Geothermal Technologies Program Blue Ribbon Panel Report and Request for Public Comment

AGENCY: Office of Energy Efficiency and Renewable Energy, Department of Energy.

ACTION: Notice of availability and request for public comment.

SUMMARY: The Department of Energy's (DOE) Office of Energy Efficiency and Renewable Energy (EERE) Geothermal Technologies Program (the Program) assembled a geothermal Blue Ribbon Panel (the Panel) on March 22/23, 2011 in Albuquerque, New Mexico for a guided discussion on the future of geothermal energy in the United States and the role of the DOE Program. The Geothermal Blue Ribbon Panel Report captures the discussions and recommendations of the experts and can be accessed at: http://geothermal.energy.gov/brp.

DATES: Submit electronic or written comments on or before July 29, 2011.

ADDRESSES: Comments may be submitted by e-mail to: DOE.Geothermal@ee.doe.gov. Please include “Geothermal Blue Ribbon Panel Report” in the subject line. Please put the full body of your comments in the text of the e-mail and as an attachment. Please include your name, title, organization, postal address, telephone number, and e-mail address in the text of the message.

Comments may also be submitted by surface mail to: Department of Energy, Office of Energy Efficiency and Renewable Energy, JoAnn Milliken (6A-067), 1000 Independence Ave., SW., Washington, DC 20585.

Respondents are encouraged to submit comments electronically to ensure timely receipt. The Geothermal Blue Ribbon Panel Report can be accessed at: http://geothermal.energy.gov/brp.

FOR FURTHER INFORMATION CONTACT: JoAnn Milliken, Acting Geothermal Program Manager, at (202) 586-2480 or joann.milliken@ee.doe.gov.

SUPPLEMENTARY INFORMATION: The majority of geothermal energy growth occurred prior to 1990. In recent years, the growth of geothermal capacity in the U.S. has lagged that of solar and wind energy. The purpose of the Blue Ribbon Panel meeting was to identify the obstacles to geothermal energy growth, discuss the appropriate role of DOE in enabling geothermal energy, and recommend priority research and development areas. The 15 panelists included experts from the geothermal and oil/gas industries, finance institutions, utilities, universities, and national laboratories.

This notice requests public comment on the recommendations and discussions captured in the Geothermal Blue Ribbon Panel Report.

Public Participation Policy

It is the policy of the Department to ensure that public participation is an integral and effective part of DOE activities, and that decisions are made with the benefit of significant public input and perspectives.

The Department recognizes the many benefits to be derived from public participation for both stakeholders and DOE. Public participation provides a means for DOE to gather a diverse collection of opinions, perspectives, and values from the broadest spectrum of the public, enabling the Department to make more informed decisions. Public participation benefits stakeholders by creating an opportunity to provide input on decisions that affect their communities and our nation.

Issued in Washington, DC, on June 14, 2011.
JoAnn Milliken,
Acting Program Manager, Geothermal Technologies Program, Energy Efficiency and Renewable Energy.

[FR Doc. 2011-16579 Filed 6-30-11; 8:45 am]

BILLING CODE 6450-01-P